DEPARTMENT OF ENERGY

Biomass Research and Development Technical Advisory Committee

AGENCY: Energy Efficiency and Renewable Energy, Department of Energy.

ACTION: Notice of open meeting.

SUMMARY: This notice announces an open meeting of the Biomass Research and Development Technical Advisory Committee under the Food, Conservation, and Energy Act of 2008 amended by the Agricultural Act of 2014. The Federal Advisory Committee Act requires that agencies publish these notices in the Federal Register.

DATES: August 22, 2018, 8:30 a.m.-5:30 p.m., August 23, 2018, 8:00 a.m.-1:30 p.m.

ADDRESSES: DoubleTree Crystal City, 300 Army Navy Drive, Arlington, VA 22202

FOR FURTHER INFORMATION CONTACT: Dr. Mark Elless, Designated Federal Officer, Office of Energy Efficiency and Renewable Energy, U.S. Department of Energy, 1000 Independence Avenue SW, Washington, DC 20585; at (202) 586-6501 or Email: Mark.Elless@ee.doe.gov.

SUPPLEMENTARY INFORMATION:

Purpose of Meeting: To develop advice and guidance that promotes research and development leading to the production of biobased fuels and biobased products.

Tentative Agenda: Agenda will include the following:

• Update on USDA Biomass R&D Activities

• Update on DOE Biomass R&D Activities

• Presentations from national laboratories and federal agencies on their work on the Bioeconomy Initiative and on the opportunities and challenges for biobased plastics R&D.

Public Participation: In keeping with procedures, members of the public are welcome to observe the business of the Biomass Research and Development Technical Advisory Committee. To attend the meeting and/or to make oral statements regarding any of the items on the agenda, you must contact Dr. Mark Elless at (202) 586-6501 or Email: Mark.Elless@ee.doe.gov at least 5 business days prior to the meeting. Members of the public will be heard in the order in which they sign up at the beginning of the meeting. Reasonable provision will be made to include the scheduled oral statements on the agenda. The Co-chairs of the Committee will make every effort to hear the views of all interested parties. If you would like to file a written statement with the Committee, you may do so either before or after the meeting. The Co-chairs will conduct the meeting to facilitate the orderly conduct of business.

Minutes: The summary of the meeting will be available for public review and copying at http://biomassboard.gov/committee/meetings.html.

Issued at Washington, DC on July 27, 2018.
Latanya Butler,
Deputy Committee Management Officer.

[FR Doc. 2018-16456 Filed 7-31-18; 8:45 am]

BILLING CODE 6450-01-P